DEPARTMENT OF DEFENSE

Office of the Secretary

[Docket ID DoD-2022-OS-0069]

Submission for OMB Review; Comment Request

AGENCY: Office of the Under Secretary of Defense for Acquisition and Sustainment (OUSD(A&S)), Department of Defense (DoD).

ACTION: 30-Day information collection notice.

SUMMARY: The DoD has submitted to OMB for clearance the following proposal for collection of information under the provisions of the Paperwork Reduction Act.

DATES: Consideration will be given to all comments received by October 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Defense Logistics Agency Energy Request for Customer QR Code; DLA Energy Form 2063; OMB Control Number 0704-DLQR.

Type of Request: New collection.

Number of Respondents: 730.

Responses per Respondent: 1.

Annual Responses: 730.

Average Burden per Response: 1 hour.

Annual Burden Hours: 730.

Needs and Uses: Entities with a fuel purchase agreement with Defense Logistics Agency (DLA) Energy, including DoD, Federal Agencies, Federal Contractors, and Non-U.S. Government Entities, can request a Customer Quick Response (QR) code to purchase petroleum and aerospace products from DLA Energy via the DLA Form 2063, “DLA Energy Request for Customer QR Code.” DoD Manual 4140.25, “DoD Management of Energy Commodities: Sales Accountability and Documentation Management,” authorizes customers to use several forms of Authorized Purchase Source Media to buy fuel from DLA Energy. One of these methods is via Customer QR codes. DLA Energy Publication P-29, “EPoS Customer QR Codes,” implements policy, assigns responsibilities, and provides procedures for managing Customer QR codes.

Affected Public: Business or other for-profit.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 2, 2022.
Aaron T. Siegel,
Alternate OSD Federal Register Liaison Officer, Department of Defense.

[FR Doc. 2022-19419 Filed 9-7-22; 8:45 am]

BILLING CODE 5001-06-P